DEPARTMENT OF TRANSPORTATION

Federal Highway Administration

Notice of Final Federal Agency Actions on Proposed Highway in California

AGENCY: Federal Highway Administration (FHWA), Department of Transportation (DOT)

ACTION: Notice of limitation on claims for judicial review of actions by the California Department of Transportation (Caltrans).

SUMMARY: The FHWA, on behalf of Caltrans, is issuing this notice to announce actions taken by Caltrans that are final. The actions relate to a proposed highway project, I-15/SR-74 Interchange Improvement in the County of Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 15, 2025. If the Federal law that authorizes judicial review of a claim provides a time period of less than 150 days for filing such claim, then that shorter time period still applies.

FOR FURTHER INFORMATION CONTACT: For Caltrans: Antonia Toledo, Branch Chief, 464 W. 4th Street, MS 820, San Bernardino, CA 92401. Office Hours: 8 a.m.-5 p.m., Pacific standard time, telephone (909) 501-5741 or email Antonia.Toledo@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: improve traffic operations and reduce congestion at Interstate 15 (I-15)/State Route 74 (SR-74) interchange and local intersections. The improvements along I-15 are from Post Mile (PM) 21.6-23.5 and along SR-74 are from PM 16.0 to 17.8 in the City of Lake Elsinore in Riverside County. The improvements consist of Northbound (NB) Hook Ramps with NB Loop Off-Ramp to Westbound (WB) SR-74

The actions by the Federal agencies, and the laws under which such actions were taken, are described in the Final Environmental Assessment (FEA)/Finding of No Significant Impact (FONSI) for the project, approved on October 4, 2024, and in other documents in the project records. The FEA, FONSI, and other project records are available by contacting Caltrans at the address provided above.

This notice applies to all Federal agency decisions as of the issuance date of this notice and all laws under which such actions were taken, including but not limited to:

1. National Environmental Policy Act of 1969

2. Federal Highway Act of 1970, U.S.C. 772

3. Clean Air Act, 42 U.S.C. 7401-7671

4. Clean Water Act, 33 U.S.C. 1251-1387

5. Federal Water Pollution Control Act of 1972

6. Safe Drinking Water Act of 1944, as amended

7. Federal Endangered Species Act (FESA)

8. Executive Order 11990, Protection of Wetlands

9. Executive Order 13112, Invasive Species

10. Executive Order 12088, Federal Compliance with Pollution Control Standards

11. Executive Order 11988, Floodplain Management

12. Executive Order 14008, U.S. DOT Climate Action Plan

13. Fish and Wildlife Coordination Act of 1934, as amended

14. Migratory Bird Treaty Act

15. Title VI of the Civil Rights Act of 1964, as amended

16. Executive Order 12898, Federal Actions to Address Environmental Justice in Minority and Low-Income Populations

17. National Historic Preservation Act of 1966 (NHPA)

18. Historic Sites Act

19. Farmland Protection Policy Act

(Catalog of Federal Domestic Assistance Program Number 20.205, Highway Planning and Construction. The regulations implementing Executive Order 12372 regarding intergovernmental consultation on Federal programs and activities apply to this program.)

Authority: 23 U.S.C. 139(l)(1).

Antonio Johnson,
Director of Planning Environmental and Right of Way, Federal Highway Administration, California Division.

[FR Doc. 2024-29492 Filed 12-13-24; 8:45 am]

BILLING CODE 4910-RY-P